DEPARTMENT OF THE INTERIOR

Bureau of Indian Affairs

Tribal Consultation on Indian Education Topics

AGENCY: Bureau of Indian Affairs, Interior.

ACTION: Notice of tribal consultation meetings.

SUMMARY: Notice is hereby given that the Bureau of Indian Affairs (BIA) will conduct consultation meetings to obtain oral and written comments concerning potential issues in Indian Education Programs. The potential issues which will be set forth in a tribal consultation booklet to be issued prior to the meetings are the Office of Indian Education Programs' proposed State Plan for Implementing the No Child Left Behind Act of 2001, the Proposed Coordinated Services Plan for the BIA-OIEP Special Education Program and Negotiated Rulemaking under The Native American Education Improvement Act of 2001. Participants will be able to suggest other items for comment.

DATES: Comments are due on or before June 28, 2002. The meeting dates will be June 17 through 20, 2002 for all locations listed. All meetings will begin at 9:00 a.m. and continue until 3:00 p.m. (Local time) or until all meeting participants have an opportunity to make comments.

ADDRESSES: Send or hand-deliver written comments to William Mehojah, Jr., Director, Office of Indian Education Programs, Bureau of Indian Affairs, MS Room 3512-MIB, 1849 C St., NW., Washington, DC 20240. Submissions by facsimile should be sent to (202) 273-0030.

FOR FURTHER INFORMATION CONTACT: Mr. Kenneth Whitehorn at (202) 208-4976.

SUPPLEMENTARY INFORMATION: The meetings are a follow-up to similar meetings conducted by the OIEP/BIA since 1990.

The purpose of the consultation, as required by 25 U.S.C. 2011(b), is to provide Indian tribes, school boards, parents, Indian organizations and other interested parties with an opportunity to comment on potential issues raised during previous consultation meetings or being considered by the BIA on Indian education programs.

Meeting Schedule
Dates | Location | Local Contact | Phone Number
June 17, 2002 | Albuquerque, NM | Benjamin Atencio | (505) 346-2431
June 18, 2002 | Billings, MT | LaVonne French | (406) 247-7953
June 18, 2002 | Window Rock, AZ | Bea Woodward | (505) 786-6150
June 18, 2002 | San Diego, CA | Fayetta Babby | (916) 978-6057
June 18, 2002 | Minneapolis, MN | Terry Portra | (612) 713-4400
June 18, 2002 | New Orleans, LA | LaVonna Weller | (202) 208-7952
June 18, 2002 | Rapid City, SD | Norma Tibbitts | (605) 867-1306
June 19, 2002 | Anchorage, AK | Robert Pringle | (907) 271-4120
June 19, 2002 | Portland, OR | John Reimer | (503) 872-2743
June 19, 2002 | Mesa, AZ | Kevin Skenandore | (928) 338-5441
June 20, 2002 | Oklahoma City, OK | Joy Martin | (405) 605-6051

A consultation booklet for the meetings is being distributed to federally recognized Indian tribes, Bureau Regional and Agency Offices and Bureau-funded schools. The booklets will also be available from local contact persons at each meeting.

Comments, including names, street addresses, and other contact information of respondents, will be available for public review at the address listed under the ADDRESSES section during regular business hours (7:45 a.m. to 4:15 p.m. EST), Monday through Friday, except Federal holidays.

Individual respondents may request confidentiality. If you wish us to withhold your name, street address, and other contact information (such as fax or phone number) from public review or from disclosure under the Freedom of Information Act, you must state this prominently at the beginning of your comment. We will honor your request to the extent allowable by law. We will make available for public inspection in their entirety all submissions from organizations or businesses, and from individuals identifying themselves as representatives or officials of organizations or businesses.

This notice is published in accordance with the authority delegated by the Secretary of the Interior to the Assistant Secretary—Indian Affairs by 209 DM 8.1.

Dated: April 26, 2002.
Neal A. McCaleb,
Assistant Secretary—Indian Affairs.

[FR Doc. 02-11269 Filed 5-6-02; 8:45 am]

BILLING CODE 4310-6W-P